INTERNATIONAL TRADE COMMISSION

[Investigation Nos. 701-TA-450 and 731-TA-1122 (Review)]

Laminated Woven Sacks From China

Determination

On the basis of the record ¹ developed in the subject five-year reviews, the United States International Trade Commission (Commission) determines, pursuant to section 751(c) of the Tariff Act of 1930 (19 U.S.C. 1675(c)), that revocation of the antidumping duty and countervailing duty orders on laminated woven sacks from China would be likely to lead to continuation or recurrence of material injury to an industry in the United States within a reasonably foreseeable time.²

¹ The record is defined in sec. 207.2(f) of the Commission's Rules of Practice and Procedure (19 CFR 207.2(f)).

² Commissioner Kieff did not participate in these determinations.

Background

The Commission instituted these reviews on July 1, 2013 (78 FR 39319) and determined on October 21, 2013, that it would conduct expedited reviews (78 FR 68473, November 14, 2013).

The Commission completed and filed its determinations in these reviews on March 11, 2014. The views of the Commission are contained in USITC Publication 4457 (March 2014), entitled Laminated Woven Sacks from China: Investigation Nos. 701-TA-450 and 731-TA-1122 (Review).

By order of the Commission.
Issued: March 12, 2014.
Lisa R. Barton,
Acting Secretary to the Commission.

[FR Doc. 2014-05852 Filed 3-17-14; 8:45 am]

BILLING CODE 7020-02-P